DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-021.

Applicant: University of Colorado, JILA, UCB 440, JILA Building, Room S/175, Boulder, CO 80309.

Instrument: YAG Laser and Intensity Noise Eater.

Manufacturer: InnoLight GmbH, Germany.

Intended Use: The instrument is intended to be used to study gases of the alkalis potassium and rubidium. Experiments to be conducted will involve optically trapping and manipulating the ultracold gases using light from the laser for understanding metals, insulators, and superconductors and the phase transitions between them.

Application accepted by Commissioner of Customs: April 23, 2003.

Docket Number: 03-022.

Applicant: University of California, Berkeley, Physics Department, 366 Le Conte Hall, #7300, Berkeley, CA 94720-7300.

Instrument: Low Temperature UHV Scanning Tunneling Microscope.

Manufacturer: Omicron Vakuumphysik GmbH, Germany.

Intended Use: The instrument is intended to be used to study magnetic nanostructures at metal and semiconductor surfaces. One of the main goals is to determine if magnetic nanostructures are suitable for use as “quantum bits” in a quantum computer (qubits) and if it is possible to detect and control the quantum states of a single spin center, and determine its level of quantum decoherence.

Application accepted by Commissioner of Customs: April 29, 2003.

Gerald A. Zerdy,
Program Manager, Statutory Import Programs Staff.

[FR Doc. 03-12310 Filed 5-15-03; 8:45 am]

BILLING CODE 3510-DS-P